DEPARTMENT OF EDUCATION

Notice of Proposed Information Collection Requests

AGENCY: Department of Education.

ACTION: Notice of Proposed Information Collection Requests.

SUMMARY: The IC Clearance Official, Regulatory Information Management Services, Office of Management, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by January 24, 2007.

ADDRESSES: Written comments regarding the emergency review should be addressed to the Office of Information and Regulatory Affairs, Attention: Rachel Potter, Desk Officer, Department of Education, Office of Management and Budget; 725 17th Street, NW., Room 10222, New Executive Office Building, Washington, DC 20503 or faxed to (202) 395-6974.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The IC Clearance Official, Regulatory Information Management Services, Office of Management, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner, (3) is the estimate of burden accurate; (4) how might the Department enhance the quality, utility, and clarity of the information to be collected, and (5) how might the Department minimize the burden of this collection on respondents, including through the use of information technology.

Dated: December 13, 2006.
Angela C. Arrington,
IC Clearance Official, Regulatory Information Management Services, Office of Management.

Institute of Education Sciences

Type of Review: New.

Title: Impact Evaluation of Upward Bound's Increased Focus on Higher-Risk Students—Baseline Data Collection Protocols.

Abstract: This evaluation will focus on the impacts of Upward Bound on students applying to enter the program as early as the summer of 2007. The current OMB package requests clearance for the instruments to be used in gathering information.

Additional Information: The Department is requesting emergency clearance to begin collection of parental and student consent forms, baseline information forms, and student selection forms. If the evaluation has to go through the normal clearance process, ED's notification to work with grantees on data collection could not begin until late March or early April 2007, where many grantees are completing their application periods. This schedule would likely mean that summer programs would need to be delayed or perhaps cancelled for new students, creating hostility toward the evaluation, undermining the validity of the evaluation and harming its ability to draw conclusions about the effectiveness of the redesigned Upward Bound program. Emergency processing would allow the Department to contact sampled grantees to be in the evaluation in late January or early February 2007, allowing more time for the evaluator to work with grantees selected for the evaluation (contingent on their receipt of funding for 2007), ensure that a sufficient number of eligible students are recruited to form a control group, and obtain the necessary consent and baseline student data required before random assignment can occur. The Department is requesting OMB approval by January 24, 2007.

Frequency: One time.

Affected Public:

Individuals or households; not-for-profit institutions

Reporting and Recordkeeping Hour Burden:

Responses: 7,290. Burden Hours: 3,900.

Requests for copies of the proposed information collection request may be accessed from http://edicsweb.ed.gov, by selecting the “Browse Pending Collections” link and by clicking on link number 3242. When you access the information collection, click on “Download Attachments” to view. Written requests for information should be addressed to U.S. Department of Education, 400 Maryland Avenue, SW., Potomac Center, 9th Floor, Washington, DC 20202-4700. Requests may also be electronically mailed to the Internet address IC DocketMgr@ed.gov or faxed to 202-245-6623. Please specify the complete title of the information collection when making your request.

Comments regarding burden and/or the collection activity requirements should be electronically mailed to IC DocketMgr@ed.gov. Individuals who use a telecommunications device for the deaf (TDD) may call the Federal Information Relay Service (FIRS) at 1-800-877-8339.

[FR Doc. E6-21601 Filed 12-18-06; 8:45 am]

BILLING CODE 4000-01-P